DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, the San Jose Creek Bridge Replacement Project on U.S. Route 101 at postmile 21.6, within the City of Goleta, County of Santa Barbara, State of California. Those actions grant licenses, permits, and approvals for the project.

DATES: By this notice, the FHWA, on behalf of Caltrans, is advising the public of final agency actions. A claim seeking judicial review of the Federal agency actions on the highway project will be barred unless the claim is filed on or before March 29, 2021. If the Federal law that authorizes judicial review of a claim provides a time period of less than 150 days for filing such claim, then that shorter time period still applies.

FOR FURTHER INFORMATION CONTACT: For Caltrans, Matt Fowler, Branch Chief, Central Region Environmental, Caltrans District 5, 50 Higuera Street, San Luis Obispo, CA 93401, 805-542-4603, matt.c.fowler@dot.ca.gov, Monday—Friday, 9:00 a.m.-5:00 p.m. PDT. For FHWA, contact David Tedrick at (916) 498-5024 or email david.tedrick@dot.gov.

SUPPLEMENTARY INFORMATION: Effective July 1, 2007, FHWA assigned, Caltrans assumed, environmental responsibilities for this project pursuant to 23 U.S.C. 327. Notice is hereby given that the Caltrans, have taken final agency actions subject to 23 U.S.C. 139(l)(1) by issuing licenses, permits, and approvals for the following highway project in the State of California:

San Jose Creek Bridge Replacement Project on U.S. Route 101 at postmile 21.6, within the City of Goleta, County of Santa Barbara, California. Caltrans proposes to replace the existing San Jose Creek Bridge on U.S. route 101 with a new bridge structure. The replacement of the existing bridge is necessary to remove all traces of alkali-silica reactions present in the concrete components of the existing bridge. The presence of alkali-silica reaction progressively compromises the structural integrity of concrete components. The project will also involve construction of a new bridge structure, roadway repaving, guardrail improvements, vegetation removal and habitat restoration within existing Caltrans right-of-way. Temporary construction easements are required for completion of the project. Federal EFIS ID 05-160000073.

The actions by the Federal agencies, and the laws under which such actions were taken, are described in the Final Environmental Assessment (FEA) with Finding of No Significant Impact (FONSI) for the project, approved on September 23, 2020 and in other documents in Caltrans' project records. The FEA, FONSI and other project records are available by contacting Caltrans at the addresses provided above. This notice applies to all Federal agency decisions as of the issuance date of this notice and all laws under which such actions were taken, including but not limited to:

1. National Environmental Policy Act (NEPA) [42 U.S.C. 4321-4335]

2. The National Historic Preservation Act (NHPA) of 1966 [16 U.S.C. 470(f) et seq.]

3. Native American Grave protection and Repatriation Act (NAGPRA) [25 U.S.C. 30001-3013]

4. Clean Water Act [33USC 1344]

5. Federal Endangered Species Act (FESA) [16 U.S.C. 1531-1543]

6. Migratory Bird Treaty Act [16 U.S.C. 760c-760g]

7. Invasive Species Executive Order 11988

(Catalog of Federal Domestic Assistance Program Number 20.205, Highway Planning and Construction. The regulations implementing Executive Order 12372 regarding intergovernmental consultation on Federal programs and activities apply to this program.)

Authority: 23 U.S.C. 139(l)(1).

Issued on: October 22, 2020.
Rodney Whitfield,
Director, Financial Services, Federal Highway Administration, California Division.

[FR Doc. 2020-24063 Filed 10-29-20; 8:45 am]

BILLING CODE 4910-RY-P